DEPARTMENT OF VETERANS AFFAIRS

[OMB Control No. 2900-0610]

Agency Information Collection Activities Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, has submitted the collection of information abstracted below to the Office of Management and Budget (OMB) for review and comment. The PRA submission describes the nature of the information collection and its expected cost and burden; it includes the actual data collection instrument.

DATES: Comments must be submitted on or before February 21, 2006.

For Further Information or a Copy of the Submission Contact: Denise McLamb, Records Management Service (005E3), Department of Veterans Affairs, 810 Vermont Avenue, NW., Washington, DC 20420, (202) 565-8374, FAX (202) 565-6590 or e-mail: denise.mclamb@mail.va.gov. Please refer to “OMB Control No. 2900-0610.”

Send comments and recommendations concerning any aspect of the information collection to VA's OMB Desk Officer, OMB Human Resources and Housing Branch, New Executive Office Building, Room 10235, Washington, DC 20503 (202) 395-7316. Please refer to “OMB Control No. 2900-0610” in any correspondence.

SUPPLEMENTARY INFORMATION: Title: Ecclesiastical Endorsing Organization, Request to Designate Ecclesiastical Endorsing Official, VA Form 10-0379.

OMB Control Number: 2900-0610.

Type of Review: Extension of a currently approved collection.

Abstract: The information collected on VA Form 10-0379 is used to assure that individuals employed by VA as chaplains are qualified to provide for the constitutional rights of veterans to free exercise of religion. Applicants are required to submit an official statement (“ecclesiastical endorsement”) from their religion or faith group, certifying that they are in good standing with the faith group and is qualified to perform the full range of ministry required in VA setting. VA uses this information to determine (1) who the faith group designates as its endorsing official(s); (2) whether the faith group provides ministry to a lay constituency; and (3) what is the constituency to which person endorsed by this group may minister.

An agency may not conduct or sponsor, and a person is not required to respond to a collection of information unless it displays a currently valid OMB control number. The Federal Register Notice with a 60-day comment period soliciting comments on this collection of information was published on October 5, 2005, at page 58256.

Affected Public: Business or other for-profit.

Estimated Annual Burden: 8 hours.

Estimated Average Burden Per Respondent: 45 minutes.

Frequency of Response: On occasion.

Estimated Number of Respondents: 10.

By direction of the Secretary.
Dated: January 3, 2006.
Denise McLamb,
Program Analyst, Records Management Service.

[FR Doc. E6-501 Filed 1-18-06; 8:45 am]

BILLING CODE 8320-01-P